NATIONAL SCIENCE FOUNDATION

Sunshine Act Meeting; National Science Board

The National Science Board's ad hoc Committee on Nominating the NSB Class of 2018-2024, pursuant to NSF regulations (45 CFR part 614), the National Science Foundation Act, as amended (42 U.S.C. 1862n-5), and the Government in the Sunshine Act (5 U.S.C. 552b), hereby gives notice of the scheduling of a teleconference for the transaction of National Science Board business, as follows:

TIME AND DATE: October 13, 2017 from 5:00-7:00 p.m. EDT.

PLACE: This meeting will be held by teleconference at the National Science Foundation, 2415 Eisenhower Avenue, Alexandria, VA 22314.

STATUS: Closed.

MATTERS TO BE CONSIDERED: Committee Chair's welcome and remarks; introduction to scoring results; discussion of non-consensus nominees; discussion of other nominees; assignments of nominee narratives; explanation of next steps.

CONTACT PERSON FOR MORE INFORMATION: Point of contact for this meeting is: Brad Gutierrez, bgutierr@nsf.gov, 703-292-7000.

Please refer to the National Science Board Web site www.nsf.gov/nsb for additional information. You may find meeting information and any updates (time, place, matters to be considered, or status of meeting) at https://www.nsf.gov/nsb/meetings/notices.jsp#sunshine.

Chris Blair,
Executive Assistant to the NSB Office.

[FR Doc. 2017-21968 Filed 10-5-17; 4:15 pm]

BILLING CODE 7555-01-P